DEPARTMENT OF COMMERCE

International Trade Administration

Notice of Scope Rulings

AGENCY: Enforcement and Compliance, International Trade Administration, Department of Commerce.

SUMMARY: The Department of Commerce (Commerce) hereby publishes a list of scope rulings and circumvention determinations made during the period January 1, 2023, through March 31, 2023. We intend to publish future lists after the close of the next calendar quarter.

DATES: Applicable May 22, 2023.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on February 3, 2023.² This current notice covers all scope rulings and scope ruling/circumvention determination combinations made by Enforcement and Compliance between January 1, 2023, and March 31, 2023.

¹ See 19 CFR 351.225(o).

² See Notice of Scope Rulings, 88 FR 7402 (February 3, 2023).

Scope Rulings Made January 1, 2023, Through March 31, 2023

Mexico

A-201-853 and C-201-854: Standard Steel Welded Wire Mesh From Mexico

Requestor: Keysteel Corp., Mid-South Wire Company, National Wire LLC, Oklahoma Steel & Wire Co., and Wire Mesh Corp. Imports of 6X6 W1.4/W1.4 or D.14/D1.4 (i.e., 10 gauge), 8 x 131 foot rolls of wire mesh are covered by the scope of the antidumping duty (AD) and countervailing duty (CVD) orders based on the criteria set forth under 19 CFR 351.225(k)(1); February 28, 2023.

People's Republic of China (China)

A-570-108 and C-570-109: Ceramic Tile From China

Requestor: Elysium Tiles, Inc. and Elysium Tile Florida, Inc. Composite marble tile, consisting of a marble top layer bonded to a porcelain tile base layer, is covered by the scope of the AD/CVD orders on ceramic tile from China because porcelain tile is explicitly covered by the plain language of the orders, and the marble layer is a decorative feature which does not remove the tile from the scope of the orders; January 25, 2023.

A-570-979 and C-570-980: Crystalline Silicon Photovoltaic Cells, Whether or Not Assembled Into Modules, From China

Requestor: Anker Innovations Limited (Anker). The PowerSolar 3-Port 100W Foldable Outdoor Solar Panel (Model A2431) that is exported by Anker is not covered by the scope of the AD/CVD orders on crystalline silicon photovoltaic cells, whether or not assembled into modules, from China because the product meets one of the express scope exclusions for off-grid solar panels contained in the plain language of the scope of the orders; January 30, 2023.

A-570-090 and C-570-091: Certain Steel Wheels 12 to 16.5 Inches in Diameter From China

Requestor: Asia Wheel Co., Ltd. Certain models of trailer wheels which Asia Wheel processes in Thailand from rims produced in Thailand from rectangular steel plates from China or a third country and discs produced in Thailand from rectangular steel plates sourced from China or a third country and exported by Asia Wheel to the United States are not covered by the AD/CVD orders on certain steel wheels 12 to 16.5 inches in diameter from China based on the plain language of the scope because the Chinese steel plate components are neither finished or unfinished rims, discs, or steel wheels; February 24, 2023.

A-570-067 and C-570-068: Forged Steel Fittings From China

Requestor: UTEX Industries, Inc. Eight fitting components of UTEX's LargeBore Frac System are not covered by the scope of the AD/CVD orders on forged steel fittings from China because they are made to different standards and specifications than in-scope merchandise and are similar to merchandise previously found to be outside the scope of the AD/CVD orders; March 10, 2023.

A-570-049 and C-570-050: Ammonium Sulfate From China

Requestor: Cambridge Isotope Laboratories, Inc. ¹⁵N Ammonium Sulfate Isotope that is imported by Cambridge Isotope Laboratories, Inc. (CIL) is within the scope of the AD/CVD orders on ammonium sulfate from the People's Republic of China based on the plain language of the scope of the orders and the description of the product contained in the scope ruling request; March 16, 2023.

A-570-601: Tapered Roller Bearings and Parts Thereof, Finished and Unfinished, From China

Requestor: Dorman Products Inc. Eight models of rear loaded knuckles that Dorman imports from China are not covered by the scope of the AD order based on the criteria set forth under 19 CFR 351.225(k)(3); March 30, 2023.

Preliminary Scope Rulings Made January 1, 2023, Through March 31, 2023

China

A-570-106 and C-570-107: Wooden Cabinets and Vanities and Components Thereof From China—Malaysia Scope Inquiry

Requestor: The American Kitchen Cabinet Alliance. Preliminary scope ruling that Scenario 1 merchandise (finished wooden doors, drawer faces, and frames produced in China are combined in Malaysia with wooden cabinet boxes and drawer boxes started and finished in Malaysia) is within the scope of the AD/CVD order on wooden cabinets and vanities and components thereof from China. Insufficient information for preliminary scope ruling pertaining to Scenario 2 merchandise (semifinished wooden doors, drawer faces, and frames produced in China are further processed in Malaysia and then combined in Malaysia with wooden cabinet boxes and drawer boxes produced in Malaysia) and Scenario 3 merchandise (semifinished parts of wooden cabinet and vanity doors, drawer faces, and frames (all the rails, stiles, and panels) are produced in China and are further processed in Malaysia and then combined in Malaysia with wooden cabinet boxes and drawer boxes produced in Malaysia). Preliminary scope ruling that Scenario 4 merchandise (finished wooden toe kicks produced in China are combined in Malaysia with all other components necessary to build a complete wooden cabinet which were started and finished in Malaysia) is not within the scope of the AD/CVD orders; March 16, 2023.

A-570-106 and C-570-107: Wooden Cabinets and Vanities and Components Thereof From China—Vietnam Scope Inquiry

Requestor: The American Kitchen Cabinet Alliance. Preliminary scope ruling that Scenario 1 merchandise (finished wooden doors, drawer faces, and frames produced in China are combined in Vietnam with wooden cabinet boxes and drawer boxes produced in Vietnam) is within the scope of the AD/CVD order on wooden cabinets and vanities and components thereof from China. Insufficient information for preliminary scope ruling pertaining to Scenario 2 merchandise (semifinished wooden doors, drawer faces, and frames produced in China are further processed in Vietnam and then combined in Vietnam with wooden cabinet boxes and drawer boxes produced in Vietnam) and Scenario 3 merchandise (semifinished parts of wooden cabinet and vanity doors, drawer faces, and frames (including the rails, stiles, and panels) are produced in China and are further processed in Vietnam and then combined in Vietnam with wooden cabinet boxes and drawer boxes produced in Vietnam). Preliminary scope ruling that Scenario 4 merchandise (finished wooden toe kicks produced in China are combined in Vietnam with all other components necessary to build a complete wooden cabinet that are started and finished in Vietnam) is not within the scope of the AD/CVD orders; March 16, 2023.

Notification to Interested Parties

Interested parties are invited to comment on the completeness of this list of completed scope inquiries and scope/circumvention inquiry combinations made during the period January 1, 2023, through March 31, 2023. Any comments should be submitted to the Deputy Assistant Secretary for AD/CVD Operations, Enforcement and Compliance, International Trade Administration, via email to CommerceCLU@trade.gov.

This notice is published in accordance with 19 CFR 351.225(o).

Dated: May 16, 2023.
James Maeder,
Deputy Assistant Secretary for Antidumping and Countervailing Duty Operations.

[FR Doc. 2023-10854 Filed 5-19-23; 8:45 am]

BILLING CODE 3510-DS-P